OFFICE OF SCIENCE AND TECHNOLOGY POLICY

Guidelines for Ensuring and Maximizing the Quality, Objectivity, Utility, and Integrity of Information Disseminated by the Office of Science and Technology Policy

AGENCY: Office of Science and Technology Policy.

ACTION: Notice of availability.

SUMMARY: The Office of Science and Technology Policy (OSTP) has finalized its Information Quality Guidelines, which describe OSTP's pre-dissemination information quality control and an administrative mechanism for requests for correction of information publicly disseminated by OSTP. The final Information Quality Guidelines are posted on OSTP's web site, http://www.ostp.gov.

DATES: OSTP's pre-dissemination review applies to information that OSTP first disseminates on or after October 1, 2002. OSTP's administrative mechanism for correcting information that OSTP disseminates applies to information that OSTP disseminates on or after October 1, 2002, regardless of when OSTP first disseminated the information.

FOR FURTHER INFORMATION CONTACT: Stan Sokul, Office of Science and Technology Policy, Washington, DC 20502. Telephone: (202) 456-7116.

SUPPLEMENTARY INFORMATION: Pursuant to prior Office of Management and Budget (OMB) guidance, on May 1, 2002, OSTP posted an initial draft of these guidelines on its web site, and published a Notice of their availability in the Federal Register seeking public comment by June 14, 2002. OSTP submitted draft guidelines to OMB on August 1, 2002, and revised draft guidelines again on September 24, 2002. These final guidelines reflect the results of the OMB review process.

In response to OSTP's Federal Register Notice, two public comments were received, from the Competitive Enterprise Institute (CEI) and the Center for Regulatory Effectiveness (CRE). Both public comments consisted of identical commentary on federal agency compliance with the Data Quality Act generally. In addition, the CRE comment enclosed a legal opinion stating that no agency dissemination of information should be excluded from the Data Quality Act (i.e., challenging any exclusions to the definition of “information”), and the CEI comment included an argument why OSTP should cease disseminating the National Assessment on Climate Change. OSTP also received a June 10, 2002, and a September 5, 2002, “Memorandum for President's Management Council” from OMB. These OMB Memoranda provided agencies with additional guidance on designing information quality guidelines.

OSTP modified its May 1, 2002, draft guidelines in several respects in response to the OMB Memoranda and in response to OSTP-OMB discussions as part of OMB's review of OSTP's draft guidelines, but made no alterations in response to the public comments. While in many instances the OSTP guidelines conformed to the CRE/CEI commentary or the commentary was not applicable, in several instances the CRE/CEI commentary did challenge OMB guidelines that OSTP had followed. OSTP interprets the statute, however, as giving OMB broad discretion in providing guidance under the Data Quality Act to federal agencies, so OSTP did not alter its own guidelines to deviate from OMB's guidance. A summary of significant amendments to OSTP's initial draft guidelines follows, in order of the text:

A new paragraph 2 was added to section I, to clarify that OSTP will treat information quality as integral to every step of the information creation, collection, maintenance and dissemination processes.

Paragraph 12 of section II(B) was modified to state that when reviewing the quality of information being prepared by other agencies (e.g., when OSTP coordinates an inter-agency drafting process), OSTP may request that the agencies certify in writing that the information they are providing complies with their own pre-dissemination review processes and that, upon such certification, OSTP can presume such information complies with the Data Quality Act and OMB's guidelines.

Paragraph 1 of section III(A), involving correction requests, was modified to state that OSTP's failure to comply with its own or OMB's information quality guidelines can form the basis of a complaint.

Paragraph 2 of section III(A) was modified to delete any specific timeliness requirements.

Paragraph 3 of section III(A) was modified to require a complaint to reference OSTP's or OMB's information quality guidelines as well as the information alleged to be incorrect.

Paragraph 7 of section III(A) was modified to clarify that requestors bear the burden of proof with respect to the necessity of a correction and the type of correction to be made.

A new subsection C, Rulemaking and Other Public Comment Procedures, was added to section III, to clarify the circumstances under which OSTP would make corrections during a notice and comment proceeding prior to final agency action in that proceeding.

In section V, Definitions, paragraph 2(f) was modified to clarify that information contained in testimony before the courts, administrative bodies or Congress is excluded from the definition of “information” only to the extent that the information contained in such testimony was already previously disseminated. Paragraph 3 was similarly modified with respect to information contained in press releases.

Paragraph 6(b)(ii)(A) of section V was modified to clarify that reproducibility of original and supporting data will be assured according to commonly accepted scientific, financial, or statistical standards.

Dated: October 16, 2002.
Barbara Ann Ferguson,
Assistant Director for Budget and Administration, Office of Science and Technology Policy.

[FR Doc. 02-26899 Filed 10-22-02; 8:45 am]

BILLING CODE 3170-01-P